DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. Patent application 10/342,649: HAZMAT Platform; a portable, re-usable, elevated platform that provides a large, non-slip, grated surface on which an individual wearing a fully-encapsulated hazardous materials suit may stand to ensure thorough on-site decontamination. The elevated design with a top grate and two folding/ pivoting support leg assemblies allows for the collection of the hazardous material runoff in a containment vessel deployed underneath. It is made of impervious, strong, lightweight material to prevent absorption of any hazardous chemicals and to provide sufficient structural strength while keeping its overall weight reasonable. The design is simple and straightforward and can be economically manufactured. Patent application 10/314,484: Hexagonal Ball Socket Driver Bit; a ball socket driver bit that includes a ball portion and a shank portion. The ball portion cross section perpendicular to the bit axis is hexagonal. The shank portion has a cross section smaller than the ball portion. The first portion end is adapted to axially enter a socket head screw. The ball portion is adapted to enter a socket such that when turning the socket the socket head screw can be turned when the socket axis is not axially aligned with the screw axis.

ADDRESSES: Requests for copies of the invention cited should be directed to the Naval Surface Warfare Center, Crane Div, Code OCF, Bldg 64, 300 Highway 361, Crane, IN 47522-5001.

FOR FURTHER INFORMATION CONTACT: Mr. Darrell Boggess, Naval Surface Warfare Center, Crane Div, Code OCF, Bldg 64, 300 Highway 361, Crane, IN 47522-5001, telephone (812) 854-1130. To download an application for license, see: www.crane.navy.mil/foia_pa/CranePatents.asp.

Authority: 35 U.S.C. 207, 37 CFR part 404.

Dated: March 28, 2003.
R.E. Vincent II,
Lieutenant Commander, Judge Advocate General's Corps, U.S. Navy, Federal Register Liaison Officer.

[FR Doc. 03-8673 Filed 4-8-03; 8:45 am]

BILLING CODE 3810-FF-P